DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Long Island Rail Road

[Waiver Petition Docket Number FRA-2003-15638]

Long Island Rail Road (LIRR) seeks a waiver of compliance with the Passenger Equipment Safety Standards, 49 CFR 238.303 (e)(15)(i), for their fleet of “M-7-EMU” passenger locomotives, as it pertains to MU type locomotives equipped with dynamic brakes found not to be in operating condition during performance of the exterior calendar day inspection. LIRR states these EMU locomotive braking systems operate differently than more traditional style MU equipment. The LIRR letter of request indicates that the braking system on this equipment utilizes axle mounted disk brakes which provide 80% of friction braking effort, tread brakes which provide 20% of friction braking effort, and additional dynamic braking effort to a speed of 3 mph. If the waiver is granted , LIRR would treat any failure of dynamic braking system on the EMU equipment as if it were a traditional locomotive with defective dynamic brakes [49 CFR 238.303(e)(15)(ii)].

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2003-15638) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on August 12, 2003.
Michael J. Logue,
Deputy Associate Administrator for Safety Compliance and Program Implementation.

[FR Doc. 03-21138 Filed 8-18-03; 8:45 am]

BILLING CODE 4910-06-P